SMALL BUSINESS ADMINISTRATION

Regulatory Fairness Hearing; Region VIII—Colorado Springs, Colorado

AGENCY: U.S. Small Business Administration (SBA).

ACTION: Notice of Open Hearing of Region VIII Small Business Owners in Colorado Springs, CO.

SUMMARY: The SBA, Office of the National Ombudsman is issuing this notice to announce the location, date and time of the Colorado Springs, Colorado (CO) Regulatory Fairness Hearing. This hearing is open to the public.

DATES: The hearing will be held on Thursday, August 14, 2014, from 11:30 a.m. to 2:00 p.m. (MST).

ADDRESSES: The meeting will be at the Pikes Peak Workforce Center, El Paso County Citizens Service Center Building, 1675 Garden of the Gods Road, Colorado Springs, CO 80907.

SUPPLEMENTARY INFORMATION: Pursuant to the Small Business Regulatory Enforcement Fairness Act (Pub. L.104-121), Sec. 222, SBA announces the meeting for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Colorado Springs, CO hearing must contact Niles Friedman by August 8, 2014, in writing, by fax or email in order to be placed on the agenda. For further information, please contact Niles Friedman, Senior Advisor to the National Ombudsman, Office of the National Ombudsman, 409 3rd Street SW., Suite 7125, Washington, DC 20416, by email at niles.friedman@sba.gov, by phone at (202) 205-2417 or by fax (202) 481-5719. Additionally, if you need accommodations because of a disability, or require additional information, please contact José Méndez by phone at (202) 205-6178 or email at jose.mendez@sba.gov.

For more information on the Office of the National Ombudsman, see our Web site at www.sba.gov/ombudsman.

Sincerely,
Dated: July 14, 2014.
Diana Doukas,
SBA Committee Management Officer.

[FR Doc. 2014-16879 Filed 7-17-14; 8:45 am]

BILLING CODE 8025-01-P